DEPARTMENT OF HEALTH AND HUMAN SERVICES

National Institutes of Health

Center for Scientific Review; Amended Notice of Meeting

Notice is hereby given of a change in the meeting of the Cancer Etiology Study Section, March 1, 2021, 10:00 a.m. to 5:00 p.m., National Institutes of Health, Rockledge II, 6701 Rockledge Drive, Bethesda, MD, 20892, which was published in the Federal Register on February 4, 2021, V-86 Pg. 8215.

The meeting notice is amended to change the meeting's date from March 1, 2021 to March 2, 2021. The meeting start time and end time remains the same. The meeting is closed to the public.

Dated: February 16, 2021.
David W. Freeman,
Program Analyst, Office of Federal Advisory Committee Policy.

[FR Doc. 2021-03448 Filed 2-19-21; 8:45 am]

BILLING CODE 4140-01-P